ENVIRONMENTAL PROTECTION AGENCY

[FRL-8273-3]

Clean Water Act Section 303(d): Final Agency Action on 10 Arkansas Total Maximum Daily Loads (TMDLs)

AGENCY: Environmental Protection Agency (EPA).

ACTION: Notice of availability.

SUMMARY: This notice announces the final agency action on 10 TMDLs prepared by EPA Region 6 for waters listed in the State of Arkansas, under section 303(d) of the Clean Water Act (CWA). These TMDLs were completed in response to the lawsuit styled Sierra Club, et al. v. Clifford, et al., No. LR-C-99-114. Documents from the administrative record files for the final 10 TMDLs, including TMDL calculations may be viewed at http://www.epa.gov/region6/6wq/npdes/tmdl/index.htm.

ADDRESSES: The administrative record files for these 10 TMDLs may be obtained by writing or calling Ms. Diane Smith, Environmental Protection Specialist, Water Quality Protection Division, U.S. Environmental Protection Agency Region 6, 1445 Ross Ave., Dallas, TX 75202-2733. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Clifford, et al., No. LR-C-99-114. Among other claims, plaintiffs alleged that EPA failed to establish Arkansas TMDLs in a timely manner.

EPA Takes Final Agency Action on 10 TMDLs

By this notice EPA is taking final agency action on the following 10 TMDLs for waters located within the state of Arkansas:

Segment-reach | Waterbody name | Pollutant
08020203-625 | Bear Creek Lake | Nutrient.
08020203 | Horseshoe Lake | Nutrient.
08020204 | Mallard Lake | Nutrient.
08020302 | Frierson Lake | Turbidity.
08020303 | Old Town Lake | Nutrient.
08040203-904 | Big Creek | CBOD and Ammonia.
08050002 | Grand Lake | Nutrient.
11110204 | Spring Lake | Mercury.
11140201 | First Old River Lake | Nutrient.

EPA requested the public to provide EPA with any significant data or information that might impact the 10 TMDLs at Federal Register Notice: Volume 71, Number 239, page 74907 (December 13, 2006). No comments were received.

Dated: January 16, 2007.
William K. Honker,
Deputy Director, Water Quality Protection Division, EPA Region 6.

[FR Doc. E7-1094 Filed 1-24-07; 8:45 am]

BILLING CODE 6560-50-P